DEPARTMENT OF TRANSPORTATION

Federal Aviation Administration

14 CFR Part 39

[Docket No. FAA-2010-0969; Directorate Identifier 2009-SW-62-AD; Amendment 39-16461; AD 2010-21-01]

RIN 2120-AA64

Airworthiness Directives; Eurocopter France (Eurocopter) Model AS350B, BA, B1, B2, B3, D, AS355E, F, F1, F2, and N Helicopters

AGENCY: Federal Aviation Administration (FAA), Department of Transportation (DOT).

ACTION: Final rule; request for comments.

SUMMARY: We are adopting a new airworthiness directive (AD) for the specified Eurocopter model helicopters. This AD results from a mandatory continuing airworthiness information (MCAI) AD issued by the European Aviation Safety Agency (EASA), which is the Technical Agent for the Member States of the European Community. The MCAI AD states that the AD is issued following a report of a crack discovered in the area of the center cross-member at station X 2325, at the attachment point of the yaw channel ball-type control sheath stop, of a Model AS355N helicopter fitted with the collective-to-yaw control coupling. Investigations revealed that the helicopter did not have the structural doublers, which are combined with the collective-to-yaw control coupling installation. Repetitive loads on the non-modified cross-member may cause it to crack. A crack can reduce the yaw control travel. This AD requires actions that are intended to prevent reduced yaw control and subsequent loss of control of the helicopter.

DATES: This AD becomes effective on October 29, 2010.

The incorporation by reference of certain publications is approved by the Director of the Federal Register as of October 29, 2010.

We must receive comments on this AD by December 13, 2010.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, Texas 75053-4005, telephone (800) 232-0323, fax (972) 641-3510.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: Gary Roach, Aviation Safety Engineer, FAA, Rotorcraft Directorate, Regulations and Policy Group, 2601 Meacham Blvd., Fort Worth, Texas 76137, telephone (817) 222-5130, fax (817) 222-5961.

SUPPLEMENTARY INFORMATION:

Discussion

EASA, which is the Technical Agent for the Member States of the European Community, has issued Emergency AD No. 2007-0139-E, dated May 15, 2007 (corrected May 23, 2007), to correct an unsafe condition for these French-certificated helicopters. The MCAI AD states that the AD is issued following one report of a crack discovered in the area of the center cross-member at station X 2325, at the attachment point of the yaw channel ball-type control sheath stop, of an AS355N helicopter with the collective-to-yaw control coupling. Investigations revealed that the helicopter did not have the structural doublers, which are combined with the collective-to-yaw control coupling installation. Repetitive loads on the non-modified cross-member may cause it to crack. A crack can reduce the yaw control travel.

You may obtain further information by examining the MCAI AD and any related service information in the AD docket.

Related Service Information

Eurocopter has issued an Emergency Alert Service Bulletin (EASB), dated April 11, 2007, that contains 3 different numbers (Nos. 53.00.37, 53.00.11, and 53.00.23) for Eurocopter Model 350, 355, 550, and 555 helicopters. EASB No. 53.00.37 relates to 2 Model 350 (350 BB and 350 L1) helicopters that are not type-certificated in the United States. EASB No. 53.00.11 relates to 4 Model 550 and 6 Model 555 military helicopters that are not type-certificated in the United States. The actions described in the MCAI AD are intended to correct the same unsafe condition as that identified in the service information.

FAA's Evaluation and Unsafe Condition Determination

These helicopters have been approved by the aviation authority of France and are approved for operation in the United States. Pursuant to our bilateral agreement with this State of Design, EASA, their Technical Agent, has notified us of the unsafe condition described in the MCAI AD and service information. We are issuing this AD because we evaluated all information provided by EASA and determined the unsafe condition exists and is likely to exist or develop on other helicopters of these same type designs.

Comments Invited

This AD is a final rule that involves requirements affecting flight safety, and we did not precede it by notice and opportunity for public comment. However, we invite you to send us any written data, views, or arguments concerning this AD. Send your comments to an address listed under the ADDRESSES section of this AD. Include “Docket No. FAA-2010-0969; Directorate Identifier 2009-SW-62-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Differences Between This AD and the MCAI AD

This AD differs from the MCAI AD as follows:

• We use the word “inspect” to describe the actions required by an inspector versus the word “check,” which is how we describe the actions allowed by a pilot.

• We refer to the compliance time as “hours time-in-service (TIS)” rather than “flying hours.”

• We do not include the military model helicopters in the applicability.

Costs of Compliance

We estimate that this AD will affect about 725 helicopters of U.S. registry. We also estimate that it will take about 1 work-hour per helicopter to inspect for the presence of the center cross member and doublers under the cabin floor and determine whether there is a crack in the center cross member. The average labor rate is $85 per work-hour. Required parts will cost about $150 per helicopter. Based on these figures, we estimate the cost of the AD on U.S. operators is $189,135, assuming 7 helicopters have cracks and require an additional 8 work-hours of repair labor and $2,000 in repair design and parts.

FAA's Determination of the Effective Date

An unsafe condition exists that requires the immediate adoption of this AD. We find that the risk to the flying public justifies waiving notice and comment prior to adoption of this rule because of the short compliance time, within 10 hours TIS or 1 month, whichever occurs first, to inspect for the presence of the cross-member at station X 2165 and the doublers at X 2325 and Y 269 and installing them within 55 hours TIS if they are missing. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2010-0969; Directorate Identifier 2009-SW-62-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-21-01 Eurocopter France: Amendment 39-16461. Docket No. FAA-2010-0969; Directorate Identifier 2009-SW-62-AD.

Effective Date

(a) This airworthiness directive (AD) becomes effective on October 29, 2010.

Other Affected ADs

(b) None.

Applicability

(c) This AD applies to Eurocopter France Model AS350B, BA, B1, B2, B3, D, AS355E, F, F1, F2, and N helicopters, certificated in any category.

Reason

(d) The mandatory continuing airworthiness information (MCAI) AD states that AD is issued following one report of a crack discovered in the area of the center cross-member at station X 2325, at the attachment point of the yaw channel ball-type control sheath stop of an AS355N helicopter with the collective-to-yaw control coupling. Investigations revealed that the helicopter did not have the structural doublers installed, which are combined with the collective-to-yaw control coupling installation. Repetitive loads on the non-modified cross-member may cause it to crack. A crack can reduce the yaw control travel. The AD requires actions that are intended to prevent reduced yaw control and subsequent loss of control of the helicopter.

Actions and Compliance

(e) Within 10 hours time-in-service (TIS) or within 1 month, whichever occurs first, unless already done, determine whether the cross-member (numbered “1”) at station X 2165 and the two doublers (numbered “2” and “3”) at stations X 2325 and Y 269 are installed as shown in Figure 1 of Eurocoper Emergency Alert Service Bulletin (EASB) No. 53.00.37, dated April 11, 2007 (EASB 53.00.37), for the Model AS350 helicopters and EASB No. 53.00.23, dated April 11, 2007 (EASB 53.00.23), for the Model AS355 helicopters.

Note: The one Eurocopter EASB contains 3 different numbers (Nos. 53.00.37, 53.00.11, and 53.00.23) for 4 different Eurocopter model helicopters. EASB 53.00.37 relates to 2 Model 350 (350 BB and 350 L1) helicopters that are not type-certificated in the United States; and EASB No. 53.00.11 relates to 4 Model 550 and 6 Model 555 military helicopters that are not type-certificated in the United States.

(f) If the cross-member (numbered “1”) and doublers (numbered “2” and “3”) are not installed, before further flight, inspect for a crack in the center cross-member (numbered “4”) in the area around the attachment point of the tail rotor directional ball-type control as shown in Figure 1 of EASB 53.00.37 for the Model AS350 helicopters or EASB 53.00.23 for the Model AS355 helicopters.

(1) If you find a crack, before further flight, replace the unairworthy center cross-member (Numbered “4”) with an airworthy center cross-member and comply with paragraph (g) of this AD.

(2) If you do not find a crack, before further flight, inspect the tail rotor control rigging.

(g) Within 55 hours TIS, install the cross-member (Numbered “1”) at station X 2165 and the 2 doublers (Numbered “2” and “3”) at stations X 2325 and Y 269 by following the Appendix and the referenced Figures 2 and 3 of EASB 53.00.37 for the Model AS350 helicopters and EASB 53.00.23 for the Model AS355 helicopters.

Differences Between the FAA AD and the MCAI AD

(h) This AD differs from the MCAI AD as follows:

(1) We use the word “inspect” to describe the actions required by an inspector versus the word “check,” which is how we describe the actions allowed by a pilot.

(2) We refer to the compliance time as hours TIS rather than flying hours.

(3) We do not include the military model helicopters.

Other Information

(i) Alternative Methods of Compliance (AMOCs): The Manager, Safety Management Group, Rotorcraft Directorate, FAA, ATTN: Gary Roach, Aviation Safety Engineer, 2601 Meacham Blvd., Fort Worth, Texas 76137, telephone (817) 222-5130, fax (817) 222-5961, has the authority to approve AMOCs for this AD, if requested, using the procedures found in 14 CFR 39.19.

Related Information

(j) EASA Emergency AD No. 2007-0139-E, dated May 15, 2007 (corrected May 23, 2007), contains related information.

Joint Aircraft System/Component (JASC) Code

(k) The JASC Code is 5320—Fuselage Misc. Structure.

Material Incorporated by Reference

(l) You must use the specified portions of Eurocoper Emergency Alert Service Bulletin No. 53.00.37 for the AS350 model helicopters and No. 53.00.23 for the AS355 model helicopters, both dated April 11, 2007, to do the actions required.

(1) The Director of the Federal Register approved the incorporation by reference of this service information under 5 U.S.C. 552(a) and 1 CFR part 51.

(2) For service information identified in this AD, contact American Eurocopter Corporation, 2701 Forum Drive, Grand Prairie, Texas 75053-4005, telephone (800) 232-0323, fax (972) 641-3510.

(3) You may review copies at the FAA, Office of the Regional Counsel, DOT/FAA Southwest Region, 2601 Meacham Blvd., Fort Worth, TX 76137; or at the National Archives and Records Administration (NARA). For information on the availability of this material at NARA, call (202) 741-6030, or go to: http://www.archives.gov/federal-register/cfr/ibr-locations.html.

Issued in Fort Worth, Texas, on September 23, 2010.
Mark R. Schilling,
Acting Manager, Rotorcraft Directorate, Aircraft Certification Service.

[FR Doc. 2010-25273 Filed 10-13-10; 8:45 am]

BILLING CODE 4910-13-P